INTERNATIONAL TRADE COMMISSION

[Investigation No. 731-TA-1153 (Review)]

Certain Tow-Behind Lawn Groomers and Parts Thereof From China

Determination

On the basis of the record ¹ developed in the subject five-year review, the United States International Trade Commission (“Commission”) determines, pursuant to section 751(c) of the Tariff Act of 1930 (19 U.S.C. 1675(c)), that revocation of the antidumping duty order on certain tow-behind lawn groomers and parts thereof from China would be likely to lead to continuation or recurrence of material injury to an industry in the United States within a reasonably foreseeable time.

¹ The record is defined in sec. 207.2(f) of the Commission's Rules of Practice and Procedure (19 CFR 207.2(f)).

Background

The Commission instituted this review on July 1, 2014 (79 FR 37349) and determined on October 6, 2014 that it would conduct an expedited review (79 FR 66403, November 7, 2014).

The Commission completed and filed its determination in this review on January 22, 2015. The views of the Commission are contained in USITC Publication 4516 (January 2015), entitled Certain Tow-Behind Lawn Groomers and Parts Thereof From China: Investigation No. 731-TA-1153 (Review).

Issued: January 22, 2015.
By order of the Commission.
Lisa R. Barton,
Secretary to the Commission.

[FR Doc. 2015-01438 Filed 1-27-15; 8:45 am]

BILLING CODE 7020-02-P